DEPARTMENT OF AGRICULTURE

Forest Service

Information Collection: Visitor's Permit Form FS-2300-30 and Visitor Registration Card Form FS-2300-32

AGENCY: Forest Service, USDA.

ACTION: Notice; request for comment.

SUMMARY: In accordance with the Paperwork Reduction Act of 1995, the Forest Service is seeking comments from all interested individuals and organizations on the extension of a previously approved information collection, for the Visitor's Permit Form (FS-2300-30) and the Visitor Registration Card Form (FS-2300-32). Moreover, the Organic Administration Act (16 U.S.C. 473), the Wilderness Act (16 U.S.C. 1131), Wild and Scenic Rivers Act (16 U.S.C. 1271) and Executive Order 11644 (Use of Off-Road Vehicles in the Public Lands), require the Forest Service to manage the forests to benefit both land and people. To this end, the information collected from the Visitor's Permit Form and Visitor Registration Card Form will help the Forest Service ensure that visitors' use of National Forest System lands is in the public interest and is compatible with the mission of the agency. Information will be collected from National Forest System land visitors, who will be asked to describe their intended use of the land and their estimated duration of use.

DATES: Comments must be received in writing on or before October 27, 2003, to be assured of consideration. Comments received after that date will be considered to the extent practicable.

ADDRESSES: Comments concerning this notice should be addressed to Wilderness Program Manager; Recreation, Heritage, and Wilderness Resources Staff, Mail Stop 1125, Forest Service, USDA, 1400 Independence Avenue, SW., Washington, DC 20090-1125.

Comments also may be submitted via facsimile to (202) 205-1145 or by e-mail to dfisher/wo@fs.fed.us.

The public may inspect comments received at the Office of the Director, Recreation, Heritage, and Wilderness Resources Staff, 201 14th Street, SW., Washington, DC during normal business hours. Visitors are encouraged to call ahead to (202) 205-0818 to facilitate entry to the building.

FOR FURTHER INFORMATION CONTACT: Don Fisher, Wilderness Program Manager, Recreation, Heritage, and Wilderness Resources Staff at (202) 205-1414. Individuals who use telecommunication devices for the deaf (TDD) may call the Federal Relay Service (FRS) at 1-800-877-8339 24 hours a day, every day of the year, including holidays.

SUPPLEMENTARY INFORMATION:

Description of Collection

1. Title: Visitor's Permit Form (FS-2300-30).

OMB Number: 0596-0019.

Expiration Date of Approval: 11/30/2003.

Type of Request: This is a request for extension of an information collection previously approved by the Office of Management and Budget.

Abstract: The Visitor's Permit Form is required for visitors to enter many special management areas on National Forest System Lands, including Wilderness Areas, Scenic Rivers, restricted off-road vehicle areas, and campgrounds where use is controlled through reservation and permit systems. The permit is only used where public use levels must be managed and monitored to prevent resource damage, to preserve the quality of the experience, or to maintain public safety. The information collected from the Visitor's Permit Form can also be used to respond to indicators or standards in a Forest plan or Wilderness Area plan.

Forest Service employees collect and analyze the information from the Visitor's Permit Form. The personal contact generated by issuance of the permit results in improved visitor education and information about proper camping techniques, fire prevention, safety, and sanitation. The Visitor's Permit Form also allows managers to identify heavily used areas and move use to lesser-impacted areas; and helps managers locate lost forest visitors. Not having the Visitor's Permit Form could result in overuse and site deterioration in some environmentally sensitive areas. Furthermore, without the permit, the Forest Service would be required to undertake special studies to collect use data, and could be pressed to make management decisions based on insufficient or inaccurate data.

The Visitor's Permit Form captures the visitor's name and address, area to be visited, dates of visit, length of stay, method of travel, number of people, and number of pack and saddle stock (that is, the number of animals either carrying people or their gear) in the group.

Method of Collection

The Visitor's Permit Form is generally issued by Forest Service employees at an office location and requires visitors to obtain the permit in person, or to call ahead and provide the required information over the phone. The information collection does not involve the use of automated, electronic, mechanical, or other technological collection techniques. The information collected will not be shared with other organizations inside or outside the government.

Estimate of Annual Burden: 3 minutes per permit.

Type of Respondents: Individuals and groups requesting use of National Forest System wilderness and special management areas.

Estimated Annual Number of Respondents: 126,500 per year.

Estimated Annual Number of Responses per Respondent: 1.

Estimated Total Annual Burden on Respondents: 6,325 hours.

Description of Collection

2. Title: Visitor Registration Card (FS-2300-32).

OMB Number: 0596-0019.

Expiration Date of Approval: 11/30/2003.

Type of Request: This request for extension of an information collection previously approved by the Office of Management and Budget.

Abstract: The Visitor Registration Card Form is a voluntary registration card, which provides Forest Service managers with an inexpensive means of gathering visitor use information required by management plans, without imposing mandatory visitor permit regulations. Moreover, the information collected can be used to respond to indicators or standards in a Forest plan or Wilderness Area plan without requiring a mandatory permit system to gather and record the data. Use of the Visitor Registration Card Form is one of the most efficient means of collecting data from visitors. It allows the Forest Service to collect data in remote locations, where it is not feasible to have permanent staffing.

The Visitor Registration Card Form allows managers to identify heavily used areas, to prepare restoration and monitoring plans that reflect where use is occurring, and in extreme cases, to develop plans to move forest users to lesser impacted areas. It also provides managers with information useful in locating lost forest visitors. Not having the Visitor's Registration Card Form could result in overuse and site deterioration in some environmentally sensitive areas. Furthermore, without the registration card, the Forest Service would be required to undertake special studies to collect use data, and could be pressed to make management decisions based on insufficient or inaccurate data.

The Visitor Registration Card Form provides information from wilderness and special management area visitors including name and address, area to be visited, dates of visit, length of stay, method of travel, number of people, and number of pack and saddle stock (that is, the number of animals either carrying people or their gear) in the group, and number of watercraft or vehicles.

Method of Collection

The Visitor Registration Card Form (FS-2300-32) is normally made available at un-staffed entry locations such as trailheads, and is completed by the visitor without Forest Service assistance. The information is collected once from visitors during their visit, by Forest Service employees who then analyze the information. The information collected will not be shared with other organizations inside or outside the Government.

Estimate of Annual Burden: 3 minutes per card.

Type of Respondents: Individuals and groups requesting use of National Forest System wilderness and special management areas.

Estimated Annual Number of Respondents: 241,500 per year.

Estimated Annual Number of Responses per Respondent: 1.

Estimated Total Annual Burden on Respondents: 12,075 hours.

Comment Is Invited

Comment is invited on: (1) The necessity of the information for the stated purposes and the proper performance of agency functions, including the practical or scientific utility of the information; (2) the accuracy of the agency's estimated burden of the information collection, including the validity of the methodology and assumptions used; (3) the enhancement of the quality, utility, and clarity of the information to be collected; and (4) the minimization of the information collection burden on respondents, including the use of automated, electronic, mechanical, or other technological collection techniques or other forms of information technology.

Use of Comments

All comments received in response to this notice, including names and addresses when provided, will be a matter of public record. Comments will be summarized and included in the submission request toward Office of Management and Budget approval.

Dated: August 19, 2003.
Gloria Manning,
Associate Deputy Chief, National Forest System.

[FR Doc. 03-21778 Filed 8-25-03; 8:45 am]

BILLING CODE 3410-11-P